DEPARTMENT OF HOMELAND SECURITY

Coast Guard

33 CFR Part 165

[CGD01-05-094]

Navigation and Waterways Management Improvements, Providence River Regulated Navigation Area; Narragansett Bay, Rhode Island and Mt. Hope Bay, MA

AGENCY: Coast Guard, DHS.

ACTION: Notice; request for public comments.

SUMMARY: The First Coast Guard District announces that it is considering changing, rescinding, or maintaining certain navigation regulations currently in effect for the Providence River, and is also considering what, if any, navigation safety measures should be implemented within Narragansett Bay, Rhode Island and Mt. Hope Bay, Massachusetts [hereafter “Bays”].

DATES: Comments are due on or before December 21, 2005.

ADDRESSES: You may submit comments identified by docket number CGD01-05-094 to the Commanding Officer, U.S. Coast Guard Marine Safety Office Providence. That office maintains the public dockets for this rulemaking. Comments and documents will become part of this docket and will be available for inspection and copying at the same address between 8 a.m. and 3 p.m. Monday through Friday, except Federal holidays. To avoid duplication, please use only one of the following methods:

(1) Mail or delivery to Commanding Officer, U.S. Coast Guard Marine Safety Office Providence, 20 Risho Avenue, East Providence, RI, 02914-1208.

(2) Fax to 401-435-2399.

(3) Electronically via e-mail at EleBlanc@msoprov.uscg.mil.

FOR FURTHER INFORMATION CONTACT: If you have questions on this notice, address mail to Mr. Edward G. LeBlanc, c/o Commanding Officer, U.S. Coast Guard Marine Safety Office Providence, 20 Risho Avenue, East Providence, RI 02914-1208, call 401-435-2351, e-mail at EleBlanc@msoprov.uscg.mil, or fax 401-435-2399.

SUPPLEMENTARY INFORMATION:

Submitting Comments

We encourage you to participate in this request for public comments by submitting comments and related material. If you do so, please include your name and address, identify the docket number for this notice (CGD01-05-094), indicate the question to which each comment applies, and give the reason for each comment. You may submit your comments and material by mail, hand delivery, fax, or electronic means to the project officer at the addresses or phone numbers listed under FOR FURTHER INFORMATION CONTACT, but please submit your comments and material by only one means. If you submit them by mail or hand delivery, submit them in an unbound format, no larger than 8½ by 11 inches, suitable for copying and electronic filing. If you submit them by mail and would like to know that they reached U.S. Coast Guard Marine Safety Office Providence, please enclose a stamped, self-addressed postcard or envelope. We will consider all comments and material received during the comment period.

Public Meeting

We do not now plan to hold a public meeting, but you may submit a request for one to U. S. Coast Guard Marine Safety Office Providence at the address under ADDRESSES explaining why one would be beneficial. If we determine that a public meeting would aid the Coast Guard in determining what type, if any, of rulemaking is appropriate, we will hold one at a time and place announced by a later notice in the Federal Register.

Background and Purpose

On May 1, 1994, the Coast Guard established a Regulated Navigation Area (RNA) in the Providence River, Providence, Rhode Island. That RNA is described at 33 CFR 165.122. The RNA was designed to protect the maritime community from hazards to navigation associated with the extreme shoaling that had previously occurred in the northern section of the Providence River channel. Generally, the RNA imposed certain navigation restrictions in various segments of the Providence River including, among other requirements, a maximum draft of 35 feet for most vessels, one-way vessel traffic, and a requirement that vessels over 65 feet in length make periodic SECURITE calls via VHF radio. In September 2005, the U. S. Army Corps of Engineers (“The USACE”) completed a major maintenance dredging of the Providence River to remove most shoaling and restore the channel to a depth of 40′ at Mean Lower Low Water (MLLW), and a minimum channel width of 600′. (The USACE “Results of Survey” dated September 16, 2005, is available for review in the docket, CGD 01-05-094.) The restoration of the Providence River Channel to the above described dimensions should permit sufficient depth and width for typical commercial and recreational vessels to navigate within the channel without the special restrictions and reporting requirements currently imposed by the RNA. Consequently, the Coast Guard is considering disestablishing the RNA and restoring the Providence River to normal navigation practices, revising the RNA, or leaving the current RNA in effect.

Concurrently, the Coast Guard seeks public comment and recommendations on what, if any, navigation safety regulations may be appropriate for the waterways that encompass Narragansett Bay and Mt. Hope Bays in their entirety, including the Providence River and Taunton River. On September 7 and September 8, 2004, the Coast Guard sponsored a Ports and Waterways Safety Assessment (PAWSA) of Narragansett Bay, which was conducted by a cross-section of key waterways users and stakeholders. The report produced by the PAWSA participants identified several issues and areas within the Bays where navigation safety was of particular concern. (A copy of the PAWSA report is available in the docket, CGD01-05-094.) Although the Coast Guard has taken several non-regulatory actions to improve navigation safety, such as public outreach, education and improved aids to navigation, we seek public comment with respect to the need, if any, for additional navigation safety regulations within the Bays.

Questions

We invite the public to answer the following questions. In responding to each question, please explain your reasoning as fully as possible so that we can carefully weigh the consequences and impacts of any future regulatory actions the Coast Guard may take. In preparing your responses to these questions, please indicate your position in the maritime community, if applicable.

1. Now that the shoaling has been removed subsequent to a major dredging operation by the USACE, should the Providence River RNA as currently defined in 33 CFR 165.122 be maintained? Why, or why not? What specific hazards to navigation would be mitigated by maintaining this RNA? How would navigation safety be enhanced?

2. Should the Providence River RNA be maintained in some form other than as it currently exists? Are there less severe or more severe restrictions that should be implemented? How, specifically, would your recommendations reduce risk, mitigate hazards to navigation, and improve navigation safety?

3. Should the Providence River RNA be expanded to cover any or all other portions of Narragansett Bay, including Mt. Hope Bay and the Taunton River? If so, what type of navigation safety regulations would be beneficial and why? What hazards to navigation would be mitigated? How would risks be reduced? (Comment on such possible restrictions as one-way traffic areas, under keel clearance requirements, security call requirements, equipment carriage requirements, anchorage regulations, etc.)

4. If you recommend the Coast Guard adopt certain regulatory measures, what would be the cost (or savings), if any, to commercial and recreational vessel owners and operators to comply with your recommendations?

5. If you recommend the Coast Guard adopt certain regulatory measures, what would be the economic impact to small entities, if any? “Small entities” is defined by the Regulatory Flexibility Act [5 U.S.C. 601 et seq.], and generally refers to an enterprise or business that “is independently owned and operated and is not dominant it its field * * *” 5 U.S.C. 601.

Comments are not limited to the preceding questions and are invited on any aspect of navigation safety within the Bays.

Dated: November 10, 2005.
Mark J. Campbell,
Captain, U.S. Coast Guard, Acting Commander, First Coast Guard District.

[FR Doc. 05-22951 Filed 11-18-05; 8:45 am]

BILLING CODE 4910-15-P